DEPARTMENT OF LABOR

Employment and Training Administration

[TA-W-80,485]

RR Donnelley, Inc., Including On-Site Leased Workers From Manpower and Kelly Services, Bloomsburg, PA; Notice of Affirmative Determination Regarding Application for Reconsideration

By application dated February 25, 2012, the petitioners requested administrative reconsideration of the negative determination regarding workers' eligibility to apply for Trade Adjustment Assistance (TAA) applicable to workers and former workers of RR Donnelley, Inc., including on-site leased workers from Manpower and Kelly Services, Bloomsburg, Pennsylvania (subject firm). The Department's Notice of determination was issued on February 3, 2012 and published in the Federal Register on February 21, 2012 (77 FR 9973).

The workers engage in activities related to the production of hard and soft cover books. The initial determination was based on the findings that worker separations were not attributable to increased imports by the subject firm or its declining customers of articles like or directly competitive with hard and soft cover books or a shift to/acquisition from a foreign country by the workers' firm in the production of articles like or directly competitive with hard and soft cover books.

In the request for reconsideration, the petitioners supplied new information regarding the subject firm's operations overseas and possible import competition.

The Department of Labor has carefully reviewed the request for reconsideration and the existing record, and has determined that the Department will conduct further investigation to determine if the workers meet the eligibility requirements to apply for TAA.

Conclusion

After careful review of the application, I conclude that the claim is of sufficient weight to justify reconsideration of the U.S. Department of Labor's prior decision. The application is, therefore, granted.

Signed at Washington, DC, this 1st day of March, 2012.
Del Min Amy Chen,
Certifying Officer, Office of Trade Adjustment Assistance.

[FR Doc. 2012-5925 Filed 3-12-12; 8:45 am]

BILLING CODE 4510-FN-P